COMMISSION ON CIVIL RIGHTS

Sunshine Act Notice

AGENCY: United States Commission on Civil Rights.

ACTION: Notice of meeting cancellation.

SUMMARY: On March 18, 2010 (75 FR 13076) the U.S. Commission on Civil Rights announced a business meeting to be held on Friday, March 26, 2010 at the Commission's headquarters. On Thursday, March 25, 2010, the meeting was cancelled. The decision to cancel the meeting was too close in time to the day of the meeting for the publication of a cancellation notice to appear in advance of the scheduled meeting date. The details of the cancelled meeting are:

DATE AND TIME: Friday, March 26, 2010; 11:30 a.m. EDT.

PLACE: Via Teleconference. Public Dial in: 1-800-597-7623. Conference ID # 63007474.

Meeting open to public.

Meeting Agenda

This meeting is open to the public, except where noted otherwise.

I. Approval of Agenda

II. Program Planning

• Approval of Letter to Youngstown, Ohio City Council Members re Racially Bifurcated Test Results in the Police and Fire Departments

• Update on Status of 2010 Enforcement Report—Some of the discussion of this agenda item may be held in closed session.

• Update on Status of Title IX Project—Some of the discussion of this agenda item may be held in closed session.

III. Adjourn

The Commission's next scheduled meeting is Friday, April 16, 2010, the details of which will be published in the Federal Register eight days prior to that meeting.

CONTACT PERSON FOR FURTHER INFORMATION: Lenore Ostrowsky, Acting Chief, Public Affairs Unit (202) 376-8591. TDD: (202) 376-8116.

Persons with a disability requiring special services, such as an interpreter for the hearing impaired, should contact Pamela Dunston at least seven days prior to the meeting at 202-376-8105. TDD: (202) 376-8116.

Dated: March 29, 2010.
David Blackwood,
General Counsel.

[FR Doc. 2010-7313 Filed 3-29-10; 4:15 pm]

BILLING CODE 6335-01-P